DEPARTMENT OF COMMERCE

International Trade Administration

[C-549-818]

Certain Hot-Rolled Carbon Steel Flat Products From Thailand: Final Results of the Third Expedited Five Year (Sunset) Review of the Countervailing Duty Order

AGENCY: Enforcement and Compliance, International Trade Administration, Department of Commerce.

SUMMARY: The Department of Commerce (Commerce) finds that revocation of the countervailing duty (CVD) order certain hot-rolled carbon steel flat products from Thailand would be likely to lead to the continuation or recurrence of net countervailable subsidies at the rates in the “Final Results of Review” section of this notice.

DATES: Applicable June 11, 2019.

FOR FURTHER INFORMATION CONTACT: Jacqueline Arrowsmith, AD/CVD Operations, Office VII, Enforcement and Compliance, International Trade Administration, U.S. Department of Commerce, 1401 Constitution Avenue NW, Washington, DC 20230; telephone (202) 482-5255.

SUPPLEMENTARY INFORMATION:

Background

On December 3, 2001, Commerce published the CVD Order on certain hot-rolled carbon steel flat products from Thailand.¹ On February 5, 2019, Commerce published the notice of initiation for the third sunset review of the CVD Order, pursuant to section 751(c) of the Tariff Act of 1930, as amended (the Act).² Subsequently, Commerce received a notice of intent to participate from the domestic interested parties, which consist of Arcelor Mittal LLC, AK Steel Corporation (AK Steel), California Steel Industries, Nucor Corporation (Nucor), SSAB Enterprises, LLC, Steel Dynamics, Inc. (Steel Dynamics) and United States Steel Corporation (U.S. Steel), (the domestic interested parties), within the deadline specified in 19 CFR 351.218(d)(1)(i).³

¹ See Notice of Countervailing Duty Order: Certain Hot-Rolled Carbon Steel Flat Products from Thailand, 66 FR 60197 (December 3, 20101) (CVD Order).

² See Initiation of Five-Year (“Sunset”) Reviews, 84 FR (February 5, 2019).

³ See Five-Year (“Sunset”) Review of Antidumping and Countervailing Duty Orders on Certain Hot-Rolled Carbon Steel Flat Products from Thailand: Notice of Intent to Participate (February 20, 2019).

Commerce received a complete substantive response to the notice of initiation from the domestic interested parties within the 30-day deadline specified in 19 CFR 351.218(d)(3)(i).⁴ Commerce received no substantive responses from the Government of Thailand (GOT) or any Thai producers or exporters. As a result, pursuant to 19 CFR 351.218(e)(1)(ii)(C)(2), Commerce is conducting an expedited (120-day) sunset review of the CVD Order.

⁴ See Domestic Interested Parties' March 7, 2019 Substantive Response (Substantive Response).

Scope of the Order

The merchandise subject to this CVD Order is hot-rolled steel of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1,250 mm, and of a thickness of not less than 4 mm, not in coils and without patterns in relief) of a thickness not less than 4.0 mm is not included within the scope of the CVD Order. A full description of the scope of the CVD Order is contained in the Issues and Decision Memorandum, which is hereby adopted by this notice.⁵

⁵ See Memorandum from James Maeder, Associate Deputy Assistant Secretary for Antidumping and Countervailing Duty Operations performing the duties of Deputy Assistant Secretary for Antidumping and Countervailing Duty Operations to Jeffrey I. Kessler, Assistant Secretary for Enforcement and Compliance, “Issues and Decision Memorandum for the Final Results of the Third Expedited Sunset Review of the Countervailing Duty Order on Certain Hot-Rolled Carbon Steel Flat Products,” (Issues and Decision Memorandum).

Analysis of Comments Received

All issues raised in this sunset review are addressed in the Issues and Decision Memorandum. The issues discussed in the Issues and Decision Memorandum include the likelihood of continuation or recurrence of a countervailable subsidy and the net countervailable subsidy likely to prevail if the CVD Order were revoked. A list of topics discussed in the Issues and Decision Memorandum is attached to this notice as an Appendix. The Issues and Decision Memorandum is a public document and is on file electronically via Enforcement and Compliance's Antidumping and Countervailing Duty Centralized Electronic Service System (ACCESS). ACCESS is available to registered users at http://trade.gov/enforcement/ and in the Central Records Unit, Room B-8024, in the Herbert C. Hoover Building. In addition, a complete version of the Issues and Decision Memorandum can be accessed directly on the internet at http://enforcement.trade.gov/frn/. The signed Issues and Decision Memorandum and electronic versions of the Issues and Decision Memorandum are identical in content.

Final Results of Review

Pursuant to sections 752(b)(1) and (3) of the Act, Commerce determines that revocation of the CVD Order on certain hot-rolled carbon steel flat products from Thailand would be likely to lead to continuation or recurrence of countervailable subsidies at the following net countervailable subsidy rates:

Manufacturers/exporters/producers | Net countervailable subsidy (percent)
Sahaviriya Steel Industries Public Co. Ltd | 2.38
All others | * 2.38
* ad valorem.

Notification Regarding Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

Commerce is issuing and publishing these final results and this notice in accordance with sections 751(c), 752(b), and 777(i)(1) of the Act.

Dated: June 5, 2019.
Jeffrey I. Kessler,
Assistant Secretary for Enforcement and Compliance.

Appendix

List of Topics Discussed in the Decision Memorandum

I. Summary

II. Background

III. Scope of the Order

IV. History of the Order

V. Discussion of the Issues

1. Likelihood of Continuation or Recurrence of a Countervailable Subsidy

2. Net Countervailable Subsidy Likely to Prevail

3. Nature of the Subsidy

VI. Final Results of Review

VII. Recommendation

[FR Doc. 2019-12276 Filed 6-10-19; 8:45 am]

BILLING CODE 3510-DS-P